OFFICE OF THE UNITED STATES TRADE REPRESENTATIVE

Notification of the Second United States-Mexico-Canada Agreement Labor Council Meeting

AGENCY: Office of the United States Trade Representative.

ACTION: Notice and request for comments.

SUMMARY: The Parties to the United States-Mexico-Canada Agreement (USMCA) intend to hold the second meeting of the Labor Council on June 28-29, 2023. The meeting will include a closed in-person government-to-government Labor Council session in Mexico City, Mexico, and a virtual public session on implementation of the USMCA labor chapter. The Office of the United States Trade Representative (USTR) and the U.S. Department of Labor (DOL) invite comments and questions from the public in advance of the virtual public session.

DATES:

June 1, 2023: Details for registering for participation in the virtual public session will be made available on DOL and USTR websites.

June 12, 2023: The deadline for submission of questions or comments.

June 29, 2023, 1:00 p.m. to 3:30 p.m. EDT: The Labor Council will convene a virtual public session.

ADDRESSES: Submit written questions and/or comments to ILAB-Outreach@DOL.gov and MBX.USTR.USMCAhotline@ustr.eop.gov. All submissions must include the subject line USMCA Labor Council Meeting.

FOR FURTHER INFORMATION CONTACT: Brenna Dougan, Deputy Assistant U.S. Trade Representative for Labor Affairs, USTR at 202-395-7391, or Samantha Tate, Division Chief for USMCA Monitoring and Enforcement, Office of Trade and Labor Affairs, Bureau of International Labor Affairs, DOL at 202-693-4920.

SUPPLEMENTARY INFORMATION:

I. Background

Article 23.14 of the USMCA establishes a Labor Council composed of senior government representatives from trade and labor ministries that must meet within one year of the date of entry into force of the USMCA. On June 29, 2021, the Labor Council conducted the initial meeting. Thereafter, the Labor Council will meet every two years unless the Parties decide otherwise. The June 28-29, 2023, meeting is being held pursuant to this requirement. The Labor Council may consider any matter within the scope of Chapter 23 (Labor) and perform other functions as the Parties may decide.

In conducting its activities, including meetings, the Labor Council must provide a means for receiving and considering the views of interested persons on matters related to the labor chapter. If practicable, meetings will include a public session or other means for Labor Council members to meet with the public to discuss matters relating to the implementation of Chapter 23 (Labor). Accordingly, the Parties invite questions and comments from interested persons, and the July 28-29, 2023, Labor Council meeting will include a virtual public session.

Labor Council decisions and reports are made by consensus and will be made publicly available unless the Council decides otherwise. The Labor Council issues a joint summary report or statement on its work at the end of each Council meeting.

II. Labor Council Meeting

The Labor Council will include an in-person, government-to-government closed session to discuss the Parties' Chapter 23 (Labor) obligations and a virtual public session. The government-to-government session will not be open to the public.

III. Public Session on USMCA Chapter 23 Implementation

The Labor Council invites members of the public to participate in a virtual public session on June 29, 2023, from 1:00 p.m. to 3:30 p.m. EDT, to address USMCA Chapter 23 (Labor) implementation. Details for registering for virtual participation in the public session will be made available by June 1, 2023, on both the USTR website at https://ustr.gov/issue-areas/labor, and the DOL website at https://www.dol.gov/agencies/ilab/our-work/trade/labor-rights-usmca.

IV. Comments

The Labor Council is interested in the views of interested persons on matters related to the USMCA labor chapter. DOL and USTR invite specific comments and questions about the labor chapter that could be addressed at the public session. When preparing comments and questions, we encourage submitters to refer to Chapter 23 of the USMCA (https://ustr.gov/sites/default/files/files/agreements/FTA/USMCA/Text/23-Labor.pdf) and the USMCA Interagency Labor Committee for Monitoring and Enforcement Interim Procedural Guidelines for Petitions Pursuant to the USMCA (https://www.federalregister.gov/documents/2020/06/30/2020-14086/interagency-labor-committee-for-monitoring-and-enforcement-procedural-guidelines-for-petitions).

Joshua Kagan,
Assistant U.S. Trade Representative for Labor, Office of the United States Trade Representative.

[FR Doc. 2023-11560 Filed 5-30-23; 8:45 am]

BILLING CODE 3390-F3-P